COMMITTEE FOR PURCHASE FROM PEOPLE WHO ARE BLIND OR SEVERELY DISABLED

Procurement List; Proposed Deletions

AGENCY: Committee for Purchase From People Who Are Blind or Severely Disabled.

ACTION: Proposed deletions from Procurement List.

SUMMARY: The Committee is proposing to delete from the Procurement List products previously furnished by nonprofit agencies employing persons who are blind or have other severe disabilities.

Comments Must Be Received on or Before: November 26, 2006.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Cover, Helmet, Arctic White

NSN: 8415-00-NIB-0068.

NSN: 8415-00-NIB-0078.

Cover, Helmet, Reversible

NSN: 8415-00-NIB-0064.

NSN: 8415-00-NIB-0079.

NPA: Lions Volunteer Blind Industries, Inc., Morristown, Tennessee.

Contracting Activity: U.S. Army Soldier Systems Command, Natick, Massachusetts.

Helmet Assembly, Combat Vehicle Crewman

NSN: 8470-00-NIB-0003—Helmet Assembly, Combat Vehicle Crewman.

NPA: Washington-Greene County Branch, PAB, Washington, Pennsylvania.

Contracting Activity: U.S. Army Soldier Systems Command, Natick, Massachusetts.

Envelope, Crystal Clear Vinyl

NSN: 7510-00-NIB-0004.

NSN: 7510-00-NIB-0006.

NPA: Winston-Salem Industries for the Blind, Winston-Salem, North Carolina.

NPA: The Oklahoma League for the Blind, Oklahoma City, Oklahoma.

Contracting Activity: Federal Bureau of Investigation, Dept of Justice, Washington, DC.

Pad, Comfort, Ground Troops, Parachutists

NSN: 8470-00-NIB-0001—Pad, Comfort, Ground Troops, Parachutists.

NPA: South Texas Lighthouse for the Blind, Corpus Christi, Texas.

Contracting Activity: Departments of Army and Air Force—Dallas, Dallas, Texas.

Sheryl D. Kennerly,
Director, Information Management.

[FR Doc. E6-18028 Filed 10-26-06; 8:45 am]

BILLING CODE 6353-01-P